DEPARTMENT OF THE INTERIOR

Bureau of Land Management

[LLCAC08000 L14300000 ET0000 14XL1109AF]

Notice of Public Meeting on Proposed Withdrawal; North and Middle Fork American River, California

AGENCY: Bureau of Land Management, Interior.

ACTION: Notice of Public Meeting.

SUMMARY: This notice sets forth the schedule and agenda for a public meeting for the Bureau of Land Management's Proposed Withdrawal; North and Middle Fork American River. This meeting will provide the opportunity for public involvement in this proposed withdrawal action. All comments will be considered when a final determination is made on whether this land should be withdrawn.

DATES: The meeting will be held at the Auburn Recreation District, 471 Maidu Drive, Auburn, CA 95603 on May 20, 2014, at 6:30 p.m. This meeting will be open to all interested persons; those who desire to be heard in person and those who desire to submit written comments. Please indicate if you want to speak so time can be scheduled. All comments or requests to be heard should be received by close of business on Thursday, May 15, 2014 at the Bureau of Land Management, 5152 Hillsdale Circle, El Dorado Hills, CA 95762.

FOR FURTHER INFORMATION CONTACT: The BLM, Jodi Lawson, Realty Specialist, Mother Lode Field Office, 5152 Hillsdale Circle, El Dorado Hills, CA 95762, 916-941-3139, jlawson@blm.gov.

SUPPLEMENTARY INFORMATION: The Notice of Proposed Withdrawal for the North and Middle Fork American River Area which was published in the Federal Register on September 4, 2012, (77 FR 53906-53907) is hereby modified to schedule a public meeting as provided by 43 CFR part 2300.

The purpose of the proposed withdrawal is to assure long term protection and preservation of the riparian areas, wildlife habitat, scenic quality, high recreation value and reservoir sitting potential of certain public lands within the Congressionally authorized Auburn Dam project area. This withdrawal would close the land for up to 20 years from settlement, sale, location or entry under the general land laws, including the United States mining laws, subject to valid existing rights. The land will remain open to mineral leasing.

Until July 15, 2014, all persons who wish to submit comments, suggestions, or objections in connection with the proposed withdrawal may present their views in writing to the Field Manager, Mother Lode Field Office of the Bureau of Land Management, 5152 Hillsdale Circle, El Dorado Hills, CA 95762.

Dated: April 3, 2014.
William S. Haigh,
Field Manager, Mother Lode Field Office.

[FR Doc. 2014-08601 Filed 4-15-14; 8:45 am]

BILLING CODE 4310-40-P